DEPARTMENT OF ENERGY

Federal Energy Regulatory Commission

Combined Notice of Filings #1

Take notice that the Commission received the following exempt wholesale generator filings:

Docket Numbers: EG23-142-000.

Applicants: Anemoi Energy Storage, LLC.

Description: Anemoi Energy Storage, LLC submits Notice of Self-Certification of Exempt Wholesale Generator Status.

Filed Date: 5/3/23.

Accession Number: 20230503-5098.

Comment Date: 5 p.m. ET 5/24/23.

Docket Numbers: EG23-143-000.

Applicants: Ebony Energy Storage, LLC.

Description: Ebony Energy Storage, LLC submits Notice of Self-Certification of Exempt Wholesale Generator Status.

Filed Date: 5/3/23.

Accession Number: 20230503-5100.

Comment Date: 5 p.m. ET 5/24/23.

Take notice that the Commission received the following electric rate filings:

Docket Numbers: ER10-3145-015.

Applicants: AES Alamitos, LLC.

Description: Compliance filing: Revised Tariff Sheets for Market-Based Rate Tariffs to be effective 5/4/2023.

Filed Date: 5/3/23.

Accession Number: 20230503-5002.

Comment Date: 5 p.m. ET 5/24/23.

Docket Numbers: ER12-1777-002.

Applicants: The Dayton Power and Light Company.

Description: Compliance filing: Revised Tariff Sheets for Market-Based Rate Tariffs to be effective 5/4/2023.

Filed Date: 5/3/23.

Accession Number: 20230503-5003.

Comment Date: 5 p.m. ET 5/24/23

Docket Numbers: ER18-2303-004; ER11-4055-013; ER12-1566-017; ER12-2498-023; ER12-2499-023; ER13-764-023; ER14-1548-016; ER14-1927-011; ER15-2653-004; ER16-1327-006; ER17-382-008; ER17-383-008; ER17-384-008; ER18-1416-007; ER18-2305-004; ER18-2303-005; ER21-425-004; ER21-848-004; ER23-66-001; ER23-401-001; ER17-2141-006; ER17-2142-006; ER17-2385-004; ER18-2308-004; ER11-3987-018; ER16-1325-006; ER16-1326-006; ER22-2914-001; ER22-2916-001; ER18-855-007; ER23-139-002; ER18-2309-004; ER18-2310-004; ER10-1246-019; ER10-1252-019; ER14-1775-011; ER18-2311-004; ER23-138-002; ER20-2671-005; ER20-2313-001; ER20-2032-002; ER21-2005-001; ER17-1438-003; ER12-2145-007; ER20-2314-001; ER17-2345-002; ER22-2924-001; ER10-2821-008; ER12-1329-008.

Applicants: Wildcat Wind Farm I, LLC, Stony Creek Wind Farm, LLC, RWE Supply & Trading US, LLC, RWE Supply & Trading Americas, LLC, RWE Clean Energy QSE, LLC, RWE Clean Energy O&M, LLC, Radford's Run Wind Farm, LLC, Hickory Park Solar, LLC, Hardin Wind LLC, Boiling Springs Wind Farm, LLC, Water Strider Solar, LLC, Watlington Solar, LLC, SF Wind Enterprises, LLC, SEP II, LLC, RWE Clean Energy Solutions, Inc., RWE Clean Energy Wholesale Services, Inc., Rose Wind Holdings, LLC, Rose Creek Wind, LLC, Pleasant Hill Solar, LLC, Panoche Valley Solar, LLC, Mesquite Solar 5, LLC, Mesquite Solar 4, LLC, Mesquite Solar 3, LLC, Mesquite Solar 2, LLC, Mesquite Solar 1, LLC, K&K Wind Enterprises, LLC, Great Valley Solar 3, LLC, Great Valley Solar 2, LLC, Great Valley Solar 1, LLC, CED Timberland Solar, LLC, Baron Winds LLC, Battle Mountain SP, LLC, Copper Mountain Solar 5, LLC, Garwind, LLC, Bobilli BSS, LLC, CED Wistaria Solar, LLC, CED Ducor Solar 3, LLC, CED Ducor Solar 2, LLC, CED Ducor Solar 1, LLC, Copper Mountain Solar 4, LLC, Campbell County Wind Farm, LLC, CED White River Solar 2, LLC, Copper Mountain Solar 3, LLC, CED White River Solar, LLC, Alpaugh North, LLC, Alpaugh 50, LLC, Copper Mountain Solar 2, LLC, Copper Mountain Solar 1, LLC, Adams Wind Farm, LLC.

Description: Notice of Change in Status of Adams Wind Farm, LLC, et al.

Filed Date: 4/28/23.

Accession Number: 20230428-5727.

Comment Date: 5 p.m. ET 5/19/23.

Docket Numbers: ER19-1179-005.

Applicants: AES ES Gilbert, LLC.

Description: Compliance filing: Revised Tariff Sheets for Market-Based Rate Tariffs to be effective 5/4/2023.

Filed Date: 5/3/23.

Accession Number: 20230503-5005.

Comment Date: 5 p.m. ET 5/24/23.

Docket Numbers: ER19-1474-004.

Applicants: AES Huntington Beach Energy, LLC.

Description: Compliance filing: Revised Tariff Sheets for Market-Based Rate Tariffs to be effective 5/4/2023.

Filed Date: 5/3/23.

Accession Number: 20230503-5006.

Comment Date: 5 p.m. ET 5/24/23.

Docket Numbers: ER20-1620-002.

Applicants: AES Solutions Management, LLC.

Description: Compliance filing: Revised Tariff Sheets for Market-Based Rate Tariffs to be effective 5/4/2023.

Filed Date: 5/3/23.

Accession Number: 20230503-5008.

Comment Date: 5 p.m. ET 5/24/23.

Docket Numbers: ER20-1629-004.

Applicants: AES ES Alamitos, LLC.

Description: Compliance filing: Revised Tariff Sheets for Market-Based Rate Tariffs to be effective 5/4/2023.

Filed Date: 5/3/23.

Accession Number: 20230503-5004.

Comment Date: 5 p.m. ET 5/24/23.

Docket Numbers: ER21-1735-001.

Applicants: Indianapolis Power & Light Company.

Description: Compliance filing: Revised Tariff Sheets for Market Based Rate to be effective 5/4/2023.

Filed Date: 5/3/23.

Accession Number: 20230503-5007.

Comment Date: 5 p.m. ET 5/24/23.

Docket Numbers: ER23-426-003.

Applicants: California Independent System Operator Corporation.

Description: Compliance filing: 2023-05-03 NAESB Compliance Filing—Part II to be effective 12/31/9998.

Filed Date: 5/3/23.

Accession Number: 20230503-5085.

Comment Date: 5 p.m. ET 5/24/23.

Docket Numbers: ER23-427-002.

Applicants: California Independent System Operator Corporation.

Description: Compliance filing: 2023-05-03 NAESB Waiver Filing—Part II to be effective N/A.

Filed Date: 5/3/23.

Accession Number: 20230503-5089.

Comment Date: 5 p.m. ET 5/24/23.

Docket Numbers: ER23-1570-001.

Applicants: PJM Interconnection, L.L.C.

Description: Tariff Amendment: Amendment to WMPA, SA No. 6847; Queue No. AF2-102 to be effective 6/5/2023.

Filed Date: 5/3/23.

Accession Number: 20230503-5073.

Comment Date: 5 p.m. ET 5/24/23.

Docket Numbers: ER23-1586-001.

Applicants: PJM Interconnection, L.L.C.

Description: Tariff Amendment: Amendment to NSA, SA No. 6851; AE1-020 to be effective 6/6/2023.

Filed Date: 5/3/23.

Accession Number: 20230503-5040.

Comment Date: 5 p.m. ET 5/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2023.
Kimberly D. Bose,
Secretary.

[FR Doc. 2023-09814 Filed 5-8-23; 8:45 am]

BILLING CODE 6717-01-P